DEPARTMENT OF TRANSPORTATION

Federal Aviation Administration

14 CFR Part 39

[Docket No. FAA-2009-0360; Directorate Identifier 2009-NM-039-AD; Amendment 39-15887; AD 2009-09-01]

RIN 2120-AA64

Airworthiness Directives; Airbus Model A318, A319, A320 and A321 Series Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

During a routine inspection on an Airbus A321 aircraft, the operator discovered that a bearing of the flap track No. 1 pendulum assembly had migrated out of position. * * * This condition, if not corrected, could lead to separation of the bearing/flap track assembly, resulting in the detachment of the affected flap surface from the wing and consequent loss of control of the aircraft.

* * * * *

This AD requires actions that are intended to address the unsafe condition described in the MCAI.

DATES: This AD becomes effective May 6, 2009.

The Director of the Federal Register approved the incorporation by reference of certain publications listed in the AD as of May 6, 2009.

We must receive comments on this AD by May 21, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Discussion

The European Aviation Safety Agency (EASA) which is the Technical Agent of the Member States of the European Community, has issued EASA Airworthiness Directive 2009-0025, dated February 10, 2009 [Corrected February 11, 2009] (referred to after this as “the MCAI”), to correct an unsafe condition for the specified products. The MCAI states:

During a routine inspection on an Airbus A321 aircraft, the operator discovered that a bearing of the flap track No. 1 pendulum assembly had migrated out of position. The investigation has confirmed that the pendulum bearing migration was probably due to the methods used during in-service replacement of the bearing during maintenance, whereby the necessary special tools, fixtures and equipment were not used. This condition, if not corrected, could lead to separation of the bearing/flap track assembly, resulting in the detachment of the affected flap surface from the wing and consequent loss of control of the aircraft.

For the reasons described above, this AD requires a one-time inspection of the affected flap track No.1 pendulum assembly for bearing migration and, in case any bearing is found to have migrated, the replacement of the affected flap track pendulum assembly.

Note: Based on this in-service experience, showing the potential safety effect of not following the TC Holder's accomplishment instructions, Airbus has removed the instructions to replace the bearing in the pendulum assembly from the A320 Family aircraft maintenance documentation. Component Maintenance Manual (CMM) references are 27-54-43 for the A318, A319 and A320, and 27-54-42 for the A321.

If no migration is found during the one-time inspection for migration, the required actions include an inspection for correct swaging of the spherical bearing in the No.1 flap track pendulum assembly. If the bearing is found incorrectly swaged, the corrective actions include contacting Airbus for repair instructions and doing the repair. You may obtain further information by examining the MCAI in the AD docket.

Relevant Service Information

Airbus has issued Service Bulletin A320-57-1144, including Appendix 01, Revision 01, dated June 18, 2007; and Service Bulletin A320-57A1146, including Appendix 01, dated September 21, 2007. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

An unsafe condition exists that requires the immediate adoption of this AD. The FAA has found that the risk to the flying public justifies waiving notice and comment prior to adoption of this rule because of the possible separation of the bearing and flap track assembly, resulting in the detachment of the affected flap surface from the wing and consequent loss of control of the airplane. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2009-0360; Directorate Identifier 2009-NM-039-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-09-01 Airbus: Amendment 39-15887. Docket No. FAA-2009-0360; Directorate Identifier 2009-NM-039-AD.

Effective Date

(a) This airworthiness directive (AD) becomes effective May 6, 2009.

Affected ADs

(b) None.

Applicability

(c) This AD applies to Airbus Model A318-111, A318-112, A318-121, A318-122, A319-111, A319-112, A319-113, A319-114, A319-115, A319-131, A319-132, A319-133, A320-111, A320-211, A320-212, A320-214, A320-231, A320-232, A320-233, A321-111, A321-112, A321-131, A321-211, A321-212, A321-213, A321-231, and A321-232 airplanes; certificated in any category; except airplanes identified in paragraph (c)(1), (c)(2), (c)(3), or (c)(4) of this AD.

(1) Any airplane for which the date of issuance of the original French or German airworthiness certificate or the date of issuance of the original French or German export certificate of airworthiness, is after February 24, 2009 (the effective date of European Aviation Safety Agency (EASA) Airworthiness Directive 2009-0025 [Corrected: February 11, 2009]).

(2) Any airplane for which it can be positively determined from records review that the bearing of any pendulum assembly has not been replaced or re-swaged since the date of issuance of the original French or German airworthiness certificate or the date of issuance of the original French or German export certificate of airworthiness.

(3) Any airplane inspected prior to the effective date of this AD in accordance with Airbus Service Bulletin A320-57A1146, dated September 21, 2007 (for Model A318, A319 and A320 series airplanes); or in accordance with Airbus Service Bulletin A320-57A1144, dated February 6, 2007, or A320-57-1144, Revision 01, dated June 18, 2007 (for Model A321 series airplanes), and on which it can be positively determined from a records review that thereafter no replacement with a pendulum assembly whose bearing has been replaced or re-swaged since new manufacture was performed.

(4) Any airplane inspected prior to the effective date of this AD in accordance with Airbus Service Bulletin A320-57A1146, dated September 21, 2007 (for Model A318, A319 and A320 series airplanes); or in accordance with Airbus Service Bulletin A320-57A1144, dated February 6, 2007, or A320-57-1144, Revision 01, dated June 18, 2007 (for Model A321 series airplanes), and on which it can be positively determined from a records review that thereafter no pendulum bearing replacement or re-swaging was performed.

Subject

(d) Air Transport Association (ATA) of America Code 57: Wings.

Reason

(e) The mandatory continued airworthiness information (MCAI) states:

During a routine inspection on an Airbus A321 aircraft, the operator discovered that a bearing of the flap track No.1 pendulum assembly had migrated out of position. The investigation has confirmed that the pendulum bearing migration was probably due to the methods used during in-service replacement of the bearing during maintenance, whereby the necessary special tools, fixtures and equipment were not used. This condition, if not corrected, could lead to separation of the bearing/flap track assembly, resulting in the detachment of the affected flap surface from the wing and consequent loss of control of the aircraft.

For the reasons described above, this AD requires a one-time inspection of the affected flap track No.1 pendulum assembly for bearing migration and, in case any bearing is found to have migrated, the replacement of the affected flap track pendulum assembly.

Note: Based on this in-service experience, showing the potential safety effect of not following the TC Holder's accomplishment instructions, Airbus has removed the instructions to replace the bearing in the pendulum assembly from the A320 Family aircraft maintenance documentation. Component Maintenance Manual (CMM) references are 27-54-43 for the A318, A319 and A320, and 27-54-42 for the A321.

If no migration is found during the one-time inspection for migration, the required actions include an inspection for correct swaging of the spherical bearing in the No.1 flap track pendulum assembly. If the bearing is found incorrectly swaged, the corrective actions include contacting Airbus for repair instructions and doing the repair. You may obtain further information by examining the MCAI in the AD docket.

Actions and Compliance

(f) Unless already done, do the following actions:

(1) Within 600 flight hours after the effective date of this AD, inspect for migration, and correct swaging as applicable, of the pendulum assembly of flap track number 1 in accordance with the Accomplishment Instructions of Airbus Service Bulletin A320-57A1146, dated September 21, 2007 (for Model A318, A319 and A320 series airplanes); or in accordance with the Accomplishment Instructions of Airbus Service Bulletin A320-57-1144, Revision 01, dated June 18, 2007 (for Model A321 series airplanes).

(i) If the bearing of the pendulum assembly of flap track number 1 is found to have migrated, before further flight, replace the affected pendulum assembly with a new pendulum assembly, in accordance with the Accomplishment Instructions of Airbus Service Bulletin A320-57A1146, dated September 21, 2007 (for Model A318, A319 and A320 series airplanes); or in accordance with the Accomplishment Instructions of Airbus Service Bulletin A320-57-1144, Revision 01, dated June 18, 2007 (for Model A321 series airplanes).

(ii) If the bearing of the pendulum assembly of flap track number 1 is incorrectly swaged, before further flight, contact Airbus for repair instructions and accomplish the repair.

(2) After the effective date of this AD, no person shall replace the bearing in the pendulum assembly of the flap track or install a pendulum assembly, unless:

(i) The pendulum assembly is of new manufacture, or

(ii) It can be positively determined from a records review that the bearing of the pendulum assembly has not been replaced or re-swaged since new.

(3) Accomplishment of the actions required by paragraph (f)(1), (f)(2), and (f)(3) of this AD, before the effective date of this AD in accordance with Airbus Service Bulletin A320-57A1144, dated February 6, 2007, is acceptable for compliance with the corresponding requirements of paragraph (f) of this AD for Airbus Model A321 series airplanes.

FAA AD Differences

Note 1: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tim Dulin, Aerospace Engineer, International Branch, ANM-116, Transport Airplane Directorate, FAA, 1601 Lind Avenue, SW., Renton, Washington 98057-3356; telephone (425) 227-2141; fax (425) 227-1149. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2009-0025, dated February 10, 2009; Airbus Service Bulletin A320-57-1144, Revision 01, dated June 18, 2007; and Airbus Service Bulletin A320-57A1146, dated September 21, 2007, for related information.

Material Incorporated by Reference

(i) You must use Airbus Service Bulletin A320-57A1146, including Appendix 01, dated September 21, 2007; or Airbus Service Bulletin A320-57-1144, including Appendix 01, Revision 01, dated June 18, 2007; as applicable; to do the actions required by this AD, unless the AD specifies otherwise.

(1) The Director of the Federal Register approved the incorporation by reference of this service information under 5 U.S.C. 552(a) and 1 CFR part 51.

(2) For service information identified in this AD, contact Airbus, Airworthiness Office—EAS, 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on April 8, 2009.
Ali Bahrami,
Manager, Transport Airplane Directorate, Aircraft Certification Service.

[FR Doc. E9-8982 Filed 4-20-09; 8:45 am]

BILLING CODE 4910-13-P